DEPARTMENT OF ENERGY

Federal Energy Regulatory Commission

Combined Notice of Filings

Take notice that the Commission has received the following Natural Gas Pipeline Rate and Refund Report filings:

Filings Instituting Proceedings

Docket Numbers: PR21-56-001.

Applicants: Public Service Company of Colorado.

Description: Submits tariff filing per 284.123(b),(e)+(g): Administrative Tariff update Statement of Rates to be effective 4/1/2021.

Filed Date: 2/14/2022.

Accession Number: 20220214-5076.

Comment Date: 5 p.m. ET 3/7/22.

284.123(g) Protests Due: 5 p.m. ET 4/15/22.

Docket Numbers: RP22-551-000.

Applicants: El Paso Natural Gas Company, L.L.C.

Description: § 4(d) Rate Filing: Negotiated Rate Agreement Update (Conoco Feb 22) to be effective 2/16/2022.

Filed Date: 2/15/22.

Accession Number: 20220215-5092.

Comment Date: 5 p.m. ET 2/28/22.

Docket Numbers: RP22-552-000.

Applicants: Southern Natural Gas Company, L.L.C.

Description: § 4(d) Rate Filing: Fuel Retention Rates—Summer 2022 to be effective 4/1/2022.

Filed Date: 2/16/22.

Accession Number: 20220216-5051.

Comment Date: 5 p.m. ET 2/28/22.

Docket Numbers: RP22-553-000.

Applicants: Midcontinent Express Pipeline LLC.

Description: § 4(d) Rate Filing: MEP Cashout Filing February 2022 to be effective 4/1/2022.

Filed Date: 2/16/22.

Accession Number: 20220216-5058.

Comment Date: 5 p.m. ET 2/28/22.

Docket Numbers: RP22-554-000.

Applicants: Elba Express Company, L.L.C.

Description: § 4(d) Rate Filing: Fuel Tracker Filing—2022 to be effective 4/1/2022.

Filed Date: 2/16/22.

Accession Number: 20220216-5064.

Comment Date: 5 p.m. ET 2/28/22.

Docket Numbers: RP22-555-000.

Applicants: Iroquois Gas Transmission System, L.P.

Description: § 4(d) Rate Filing: 2.16.22 Negotiated Rates—DTE Energy Trading, Inc. R-1830-18 to be effective 4/1/2022.

Filed Date: 2/16/22.

Accession Number: 20220216-5065.

Comment Date: 5 p.m. ET 2/28/22.

Docket Numbers: RP22-556-000.

Applicants: Iroquois Gas Transmission System, L.P.

Description: § 4(d) Rate Filing: 2.16.22 Negotiated Rates—Macquarie Energy LLC R-4090-24 to be effective 4/1/2022.

Filed Date: 2/16/22.

Accession Number: 20220216-5067.

Comment Date: 5 p.m. ET 2/28/22.

Docket Numbers: RP22-557-000.

Applicants: Iroquois Gas Transmission System, L.P.

Description: § 4(d) Rate Filing: 2.16.22 Negotiated Rates—Freepoint Commodities LLC R-7250-41 to be effective 4/1/2022.

Filed Date: 2/16/22.

Accession Number: 20220216-5068.

Comment Date: 5 p.m. ET 2/28/22.

Docket Numbers: RP22-558-000.

Applicants: Iroquois Gas Transmission System, L.P.

Description: § 4(d) Rate Filing: 2.16.22 Negotiated Rates—Castleton Commodities Merchant Trading L.P. R-4010-31 to be effective 4/1/2022.

Filed Date: 2/16/22.

Accession Number: 20220216-5071.

Comment Date: 5 p.m. ET 2/28/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP21-1042-002.

Applicants: Rover Pipeline LLC.

Description: Compliance filing: File and Motion Revised & Cancelled Records RP21-1042-000 to be effective 2/20/2022.

Filed Date: 2/15/22.

Accession Number: 20220215-5114.

Comment Date: 5 p.m. ET 2/28/22.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 16, 2022.
Debbie-Anne A. Reese,
Deputy Secretary.

[FR Doc. 2022-03801 Filed 2-22-22; 8:45 am]

BILLING CODE 6717-01-P